DEPARTMENT OF AGRICULTURE

Forest Service

Hoosier National Forest, Forest Plan Revision Meetings

AGENCY: Forest Service, USDA.

ACTION: Notice of Meetings.

SUMMARY: The Hoosier National Forest will be holding three public meetings to provide information and clarification on the Draft Environmental Impact Statement and Proposed Land and Resource Management Plan.

DATES: Meetings will be held:

1. May 10, 2005, 5:30 p.m. to 8:30 p.m., at the Morgan County Fairgrounds in Martinsville, Indiana.

2. May 11, 2005, 5:30 p.m. to 8:30 p.m., Community Center at the Orange County Fairgrounds, in Paoli, Indiana.

3. May 12, 2005, 5:30 p.m. to 8:30 p.m., Fulton Hill Community Center, Troy, Indiana.

ADDRESSES: Morgan County Fairgrounds, P.O. Box 1534, Martinsville, Indiana, Orange County Fairgrounds, 1075 N. Sandy Hook Road, Paoli, Indiana, Fulton Hill Community Center, 855 Walnut Street, Troy, Indiana.

FOR FURTHER INFORMATION CONTACT: Judi Perez, Forest Planner, Hoosier National Forest, 811 Constitution Avenue, Bedford, Indiana 47421, (812) 275-5987.

SUPPLEMENTARY INFORMATION: The meetings are intended to provide information and answer questions in order to help you develop written comments regarding the DEIS. Attendees are encouraged to review the DEIS prior to the meetings in order to make the greatest use of the time available. The meetings are not intended to be formal hearings or forums for public comment. All meeting locations are accessible to persons with disabilities. If accommodations are needed, please contact the Hoosier National Forest at (812) 275-5987 before May 6, 2005. Please contact the Hoosier National Forest at the number above for directions or maps to meeting locations.

Dated: March 29, 2005.
Kenneth G. Day,
Forest Supervisor.

[FR Doc. 05-7032 Filed 4-7-05; 8:45 am]

BILLING CODE 3410-11-M